DEPARTMENT OF ENERGY

Office of Energy Efficiency and Renewable Energy

Notice of Opportunity for Technical Assistance (NOTA)—DE-PS36-08GO98011, Solar America Initiative (SAI) Market Transformation: Solar America Showcases, FY 2008

AGENCY: Office of Energy Efficiency and Renewable Energy, Department of Energy (DOE).

SUMMARY: The Department of Energy (DOE) is accepting requests for Technical Assistance for large-scale, high-visibility solar installation projects that have the ability to impact the market for solar technologies through large project size, use of a novel solar technology, and/or use of a novel application for a solar technology. In addition, it is desired that the project be replicable or have replicable components. It is not expected that all projects will meet all of these parameters, but projects would ideally reflect some or most of these qualities. Large-scale installations may include photovoltaic, concentrating solar power, solar water heating, and solar space heating applications. Technical assistance will not be provided for research, product development, or early stage testing and evaluation of any technology or product. Solar America Showcases focus on providing support to projects in which a commercially-ready technology is to be installed in a large-scale application with full financial project commitment already in place.

Any legal entity, to include private sector for-profit and non-profit organizations, State and local governments, and trade and other associations may request DOE Technical Assistance under this Notice, so long as the installation proposed by the organization, and for which the Technical Assistance will be provided, is located in the United States. Federal agencies are not permitted to request Technical Assistance under this Notice. Federally Funded Research and Development Center (FFRDC) Contractors may not submit a request for Technical Assistance, may not participate as a team partner with any entity requesting Technical Assistance, and may not assist any entity with their submission of a request for Technical Assistance under this Notice. Nonprofit organizations described in section 501(c)(4) of the Internal Revenue Code of 1986 that engaged in lobbying activities after December 31, 1995 are not permitted to submit a request for Technical Assistance under this Notice.

Technical Assistance described under this Notice will be provided via a Memorandum of Agreement (MOA) between DOE, the organization selected to receive the Technical Assistance, and the Technical Assistance Team Leader responsible for providing the Technical Assistance. A MOA is a collaborative agreement between the Federal Government and other parties to work together on a mutually beneficial activity. The MOA will detail the scope of the Technical Assistance activities, the forms of collaboration, the responsibilities of the partners to the Agreement, and the treatment of any potential intellectual property. Federal funding will not be provided to a partner under a MOA.

DATES: Requests for Technical Assistance must be submitted via the DOE Industry Interactive Procurement System (IIPS) Web site at http://e-center.doe.gov/ by 03/12/2008 and 06/12/2008.

ADDRESSES: Note that this posting in the Federal Register is not the full announcement. Interested parties must download and follow the instructions in the full announcement which is available on the DOE Industry Interactive Procurement System (IIPS) website. To locate the full Announcement, go to http://e-center.doe.gov/, click on “Browse Opportunities”, scroll down to view DOE Financial Assistance Opportunities (Viewing “Opportunities by Contracting Activity” is recommended.) Click on the “Browse Financial Asst.” button. Click on the folder (or blue arrow depending on your server) next to the “Golden Field Office”. Locate and click on Announcement No. DE-PS36-08GO98011, Solar America Initiative (SAI) Market Transformation: Solar America Showcases, FY2008. IMPORTANT: Scroll to the bottom of the page, where you will find the “Full Announcement & Other Files.”

FOR FURTHER INFORMATION CONTACT: Questions regarding the content of the full announcement must be submitted through the “Submit Question” feature in the DOE Industry Interactive Procurement System (IIPS) at http://e-center.doe.gov. Locate the full announcement (as identified under “Addresses”) and then click on the “Submit Question” button. Enter required information. You will receive an electronic notification that your question has been answered. DOE will try to respond to a question within 3 business days, unless a similar question and answer have already been posted on the website. All questions must be submitted no later than one week prior to the closing date. Please contact the IIPS Help Desk at 1-800-683-0751 (select Option 1) or at helpdesk@pr.doe.gov for questions regarding the operation of IIPS.

SUPPLEMENTARY INFORMATION: To provide more guidance as to the types of installations DOE is looking to support, additional information is provided below on the parameters for (and examples of) projects for which DOE anticipates receiving requests for Technical Assistance under this Notice.

Regarding the scale of the project, DOE is looking for projects with total capacity in excess of 100 kW. Projects may include multiple sites, and do not have to be co-located. In addition to the initial installation, the kW total may also include planned follow-on activities (direct replication efforts). Examples include installations in residential subdivisions, shopping centers, office buildings or parks, big box retail locations, factories, and utility solar production.

Regarding the visibility of the project, DOE anticipates projects that are centrally located in towns, are sited near highly trafficked vehicle or pedestrian areas, house hundreds of residents or workers, are a part of an area frequented by tourists, are part of a popular public destination (e.g. shopping centers, courthouses, etc.) or have some other high visibility component. The project would also have an outreach component that provides information about the installation.

Regarding the novel solar technology, DOE proposes to support projects that introduce new solar technologies that hold the promise of reducing initial costs, simplifying installation, and boosting consumer confidence, but which have little testing to date that demonstrates such improvements. Examples include new cell or module technology, new materials, or innovative installation and mounting techniques. By offering Technical Assistance, DOE envisions helping these new solar technologies develop a performance record in the marketplace, identify technical problems early in mass product releases, and devise solutions and alternatives that move specific solar technologies to cost-competitiveness by 2015.

Regarding the novel solar application, DOE expects to support projects that utilize solar technology in new ways. One example would be to include new methods of building integration beyond traditional roof-mounted modules. DOE also supports innovative designs and methods that open up previously untapped markets or end uses to solar technology adoption. Acceptable Solar Applications could also include those that are currently in use in other geographic areas, but not in the vicinity (State, region) of the proposed site.

Regarding replicability, DOE expects to support projects that can either be replicated by the entity requesting the Technical Assistance or by others. The entire project should be replicable, or have replicable components, unless installations are of an extremely large size that justifies DOE support without replicability. Replication of projects is a critical component to advance solar commercialization.

To improve the overall impact of the project, teaming by the entities requesting the Technical Assistance under this Notice with other relevant stakeholders is encouraged. DOE also encourages incorporating energy efficiency measures with solar technologies in all building/facility applications as part of the projects supported by this Technical Assistance. Technical assistance will not be provided for research, product development, or early stage testing and evaluation of any technology or product.

DOE will provide tailored hands-on Technical Assistance to the selected organization(s) through the use of specifically assembled Technical Assistance Teams. Members of these Teams will be subject matter and technical experts in areas such as, architecture, finance, planning, project management, etc. Significant participants of these Teams will be the National Renewable Energy Laboratory (NREL), Sandia National Laboratories (SNL), and the Southwest and Southeast Regional Experiment Stations (RESs), which are housed at New Mexico State University and Florida Solar Energy Center respectively. Other entities may be added to the teams as necessary. DOE may choose to contract for non-lab Technical Assistance Team members, mainly to provide the non-solar-specific Technical Assistance, through a separate procurement instrument.

Technical Assistance provided under this Notice is designed to help entities make informed decisions. Technical Assistance Teams will provide information and options to enable policy, planning, and purchasing decisions. DOE and the Technical Assistance Teams will not direct behavior or decisions, or require entities to take any particular course of action. The role of DOE stops short of the actual decision-making.

To learn more about the Solar America Initiative (SAI): http://www1.eere.energy.gov/solar/solar_america/index.html.

Issued in Golden, CO on January 15, 2008.
Mary Foreman,
Procurement Director, Golden Field Office.

[FR Doc. E8-1919 Filed 1-31-08; 8:45 am]

BILLING CODE 6450-01-P